DEPARTMENT OF THE INTERIOR

National Park Service

[NPS-WASO-NAGPRA-11741; 2200-1100-665]

Notice of Inventory Completion: Department of Anthropology, University of Massachusetts, Amherst, MA

AGENCY: National Park Service, Interior.

ACTION: Notice.

SUMMARY: The University of Massachusetts Amherst, Department of Anthropology has completed an inventory of human remains, in consultation with the appropriate Indian tribes, and has determined that there is a cultural affiliation between the human remains and present-day Indian tribes. Representatives of any Indian tribe that believes itself to be culturally affiliated with the human remains may contact the University of Massachusetts Amherst, Department of Anthropology. Repatriation of the human remains to the Indian tribes stated below may occur if no additional claimants come forward.

DATES: Representatives of any Indian tribe that believes it has a cultural affiliation with the human remains should contact the University of Massachusetts Amherst, Department of Anthropology at the address below by January 17, 2013.

ADDRESSES: Robert Paynter, Repatriation Committee Chair, telephone (413) 545-2221, or Rae Gould, Repatriation Coordinator, telephone (413) 545-2702, University of Massachusetts, Department of Anthropology, 201 Machmer Hall, 240 Hicks Way, Amherst, MA 01003.

SUPPLEMENTARY INFORMATION: Notice is here given in accordance with the Native American Graves Protection and Repatriation Act (NAGPRA), 25 U.S.C. 3003, of the completion of an inventory of human remains in the possession of the University of Massachusetts Amherst, Department of Anthropology. The human remains were removed from Florida, most likely Brevard or Indian River counties.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains and available documentation was made by the University of Massachusetts Amherst, Department of Anthropology professional staff in consultation with representatives of the Caddo Nation of Oklahoma; Catawba Indian Nation (aka Catawba Tribe of South Carolina); Cherokee Nation; Chickasaw Nation; Chitimacha Tribe of Louisiana; Choctaw Nation of Oklahoma; Coushatta Tribe of Louisiana; Jena Band of Choctaw Indians; Miccosukee Tribe of Indians; Mississippi Band of Choctaw Indians; Modoc Tribe of Oklahoma; Quapaw Tribe of Indians; Seminole Tribe of Florida (previously listed as the Seminole Tribe of Florida (Dania, Big Cypress, Brighton, Hollywood & Tampa Reservations)); The Muscogee (Creek) Nation; The Osage Nation (previously listed as the Osage Tribe); The Seminole Nation of Oklahoma; United Keetoowah Band of Cherokee Indians in Oklahoma; and the Wyandotte Nation (hereafter referred to as “The Tribes”). Representatives of the University of Massachusetts Amherst, Department of Anthropology also contacted and attempted to consult with the Eastern Band of Cherokee Indians; Poarch Band of Creeks (previously listed as the Poarch Band of Creek Indians of Alabama); and the Tunica-Biloxi Indian Tribe.

History and Description of the Remains

In about 1925, human remains representing, at minimum, 64 individuals were excavated from either the area of Melbourne, in Brevard County, FL, or the area of Vero Beach, in Indian River County, FL, by F.B. Loomis, Professor of Geology at Amherst College. In the early 1980s, these remains were transferred from Amherst College to the University of Massachusetts Amherst, Department of Anthropology for permanent curation. Two additional individuals collected at the same time remained at Amherst College and are currently curated at the Beneski Museum of Natural History, Amherst College (formerly the Pratt Museum). These remains are the subject of a separate Notice of Inventory Completion.

Most crania are marked with a red number that corresponds to an entry in a ledger entitled “Catalogue of Skeletal Material, Gilbert Museum of Indian Relics.” Entries in that ledger read: “Seminole from Melbourne Florida.” Although museum records regarding the human remains are fragmentary, provenience information associated with the remains indicates the following proveniences: 56 individuals from the “Grant Burial Heap” or simply from “Grant, Fla.”; five individuals from “Grant Burial Heap Linx, Fla.”; one individual from “Ballard Mound”; and two individuals from “Micco, Fla.” No known individuals were identified. No associated funerary objects are present with the human remains at the University of Massachusetts Amherst.

Many of the remains have black numbers that resemble the numbering system used by F.B. Loomis in the field. Loomis was engaged in excavating in Florida in 1923 and 1925, at least. No field notes from Loomis's excavations remain, but newspaper reports at the time indicate Loomis collected from “burial mounds” (Melbourne Florida Times, December 5, 1923). The Boston Globe on November 1, 1925, reported Loomis and his coworkers excavated “in Melbourne and on the east coast of Florida” for five weeks and “at Vero Beach” for two, obtaining “50 skulls and about one dozen skeletons.” This article also associates these mounds with Native Americans from southern rather than western Florida, based on the absence of pottery or tools in the mounds. No doubt, this conclusion derived from an interview with Loomis himself. Similarly, the Globe reported, “[t]he skeletons lay in formation around the mound, and when one layer was completed, earth was piled on and another layer begun. In this way the growth of the mound was effected.”

On March 17, 1869, human remains representing, at minimum, one individual were removed from the area of “Haul Over Canal,” in Brevard County, FL, by unknown collectors. In or around 1939, the remains were donated to Amherst College, and, in the early 1980s, the remains were transferred to the University of Massachusetts Amherst, Department of Anthropology. The remains bear the collection number 20137 in black ink, which corresponds to an entry in the “Catalogue of the Gilbert Museum of Indian Relics in Amherst College, Volume V” (presently maintained in the Amherst College Archives). The entry states the remains were collected “* * * from a mound near `Haul Over Canal' between Indian River and Mosquito Lagoon, East Florida March 17th, 1869.” No known individuals were identified. No associated funerary objects are present with the human remains at the University of Massachusetts Amherst.

Multiple lines of evidence—guided by tribal consultations—including geographic, oral tradition, archaeological, linguistic, historical, and aboriginal land claims, demonstrate a shared group identity between these human remains and the modern-day tribes of the Muscogee (Creek) Nation, Oklahoma; Seminole Tribe of Florida; and The Seminole Nation of Oklahoma.

Determinations Made by the University of Massachusetts Amherst, Department of Anthropology

Officials of the University of Massachusetts Amherst, Department of Anthropology have determined that:

• Pursuant to 25 U.S.C. 3001(9), the human remains described in this notice represent the physical remains of 65 individuals of Native American ancestry.

• Pursuant to 25 U.S.C. 3001(2), there is a relationship of shared group identity that can be reasonably traced between the Native American human remains and the Muscogee (Creek) Nation, Oklahoma; Seminole Tribe of Florida; and The Seminole Nation of Oklahoma.

Additional Requestors and Disposition

Representatives of any Indian tribe that believes itself to be culturally affiliated with the human remains should contact Robert Paynter, Repatriation Committee Chair, telephone (413) 545-2221, or Rae Gould, Repatriation Coordinator, telephone (413) 545-2702, University of Massachusetts, Department of Anthropology, 201 Machmer Hall, 240 Hicks Way, Amherst, MA 01003, before January 17, 2013. Repatriation of the human remains to the Muscogee (Creek) Nation, Oklahoma; Seminole Tribe of Florida; and The Seminole Nation of Oklahoma may proceed after that date if no additional claimants come forward.

The University of Massachusetts Amherst, Department of Anthropology is responsible for notifying The Tribes that this notice has been published.

Dated: November 20, 2012.
Sherry Hutt,
Manager, National NAGPRA Program.

[FR Doc. 2012-30448 Filed 12-17-12; 8:45 am]

BILLING CODE 4312-50-P